DEPARTMENT OF ENERGY

Federal Energy Regulatory Commission

[Project No. 2302-090]

Brookfield White Pine Hydro, LLC; Notice of Application for Amendment of License, Soliciting Comments, Motions To Intervene, and Protests

Take notice that the following hydroelectric application has been filed with the Commission and is available for public inspection:

a. Type of Proceeding: Application non-capacity amendment of license.

b. Project No.: 2302-095.

c. Date Filed: April 21, 2020, and supplemented on June 3 and 8, 2020.

d. Licensee: Brookfield White Pine Hydro, LLC.

e. Name of Project: Lewiston Falls Hydroelectric Project.

f. Location: The project is located on the Androscoggin River in the town of Lewiston, Androscoggin County, Maine.

g. Pursuant to: Federal Power Act, 16 U.S.C. 791a-825r.

h. Licensee Contact: Ms. Kelly Maloney, Manager, Compliance Northeast, 150 Main Street, Lewiston, Maine 04240, 207-755-5606 or kelly.maloney@brookfieldrenewable.com.

i. FERC Contact: Christopher Chaney, (202) 502-6788 or christopher.chaney@ferc.gov.

j. Deadline for filing comments, interventions, and protests is September 2, 2020.

The Commission strongly encourages electronic filing. Please file motions to intervene, protests and comments using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Kimberly D. Bose, Secretary, Federal Energy Regulatory Commission, 888 First Street NE, Room 1A, Washington, DC 20426. Submissions sent via any other carrier must be addressed to: Kimberly D. Bose, Secretary, Federal Energy Regulatory Commission, 12225 Wilkins Avenue, Rockville, Maryland 20852. The first page of any filing should include docket number P-2302-090.

k. Description of Proceeding: The applicant proposes to modify the project boundary to shorten the downstream extent of the project boundary by approximately 5 miles. Currently, the boundary encloses approximately 5.3 miles of the Androscoggin River downstream of the project powerhouse. The revised boundary would enclose approximately 0.28 mile of the downstream river. There are no lands proposed to be removed from the boundary. Additionally, the proposal does not include any changes to current project features, operations, recreation facilities, or public access, and it will have no impact on the generating or water control capabilities.

l. Filings may be viewed on the Commission's website at http://www.ferc.gov/docs-filing/elibrary.asp. Enter the docket number (P-2302-090) excluding the last three digits in the docket number field to access the documents. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

m. Individuals desiring to be included on the Commission's mailing list should so indicate by writing to the Secretary of the Commission.

n. Comments, Protests, or Motions to Intervene: Anyone may submit comments, a protest, or a motion to intervene in accordance with the requirements of Rules of Practice and Procedure, 18 CFR 385.210, .211, .212 and .214. In determining the appropriate action to take, the Commission will consider all protests or other comments filed, but only those who file a motion to intervene in accordance with the Commission's Rules may become a party to the proceeding. Any comments, protests, or motions to intervene must be received on or before the specified comment date for the particular application.

o. Filing and Service of Documents: Any filing must (1) bear in all capital letters the title COMMENTS, PROTEST, or MOTION TO INTERVENE as applicable; (2) set forth in the heading the name of the applicant and the project number of the application to which the filing responds; (3) furnish the name, address, and telephone number of the person protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

Dated: August 3, 2020.
Kimberly D. Bose,
Secretary.

[FR Doc. 2020-17297 Filed 8-6-20; 8:45 am]

BILLING CODE 6717-01-P